SECURITIES AND EXCHANGE COMMISSION

[Release No. 34-72993; File No. SR-NASDAQ-2014-091]

Self-Regulatory Organizations; The NASDAQ Stock Market LLC; Notice of Filing and Immediate Effectiveness of a Proposed Rule Change Relating to SPY and DIA Options

September 4, 2014.

Correction

In notice document 2014-21527 appearing on pages 53811-53813 in the issue of Wednesday, September 10, 2014, make the following correction:

On page 53813, in the third column, in the 20th line from the bottom, “October 2, 2014”, should read “October 1, 2014.”

[FR Doc. C1-2014-21527 Filed 9-18-14; 8:45 am]

BILLING CODE 1505-01-D